DEPARTMENT OF THE INTERIOR

Fish and Wildlife Service

[Docket No. FWS-HQ-NWRS-2012-0092; FXRS 84510900000-134-FF09R20000]

RIN 1018-AY36

Draft Policy on Donations, Fundraising, and Solicitation

AGENCY: Fish and Wildlife Service, Interior.

ACTION: Notice; request for comment.

SUMMARY: The U.S. Fish and Wildlife Service (Service) proposes to establish a policy that covers Service procedures for accepting, using, and recognizing donations. This draft donations policy is an extension of the Department of the Interior's guidance on donations, found in the Departmental Manual (DM) at 374 DM 6. It focuses on the ethical considerations of all types of donations, as opposed to our Fish and Wildlife Service Manual (FW) guidance, 342 FW 5, Non-Purchase Acquisition, which covers the acquisition of real property rights by methods other than purchase, including donation.

If finalized, this draft policy would establish procedures for reviewing and evaluating potential donors and donations. It lists delegations of authority for accepting donations and the roles and responsibilities of the Service's Donations Senior Manager and employees authorized to accept donations. It provides guidance on soliciting donations, where appropriate, and provides general guidance on fundraising by non-Federal entities on the Service's behalf. It also covers recognition of donors.

We propose to incorporate this draft policy as 212 FW 8 in the Fish and Wildlife Service Manual (http://www.fws.gov/policy/manuals/).

DATES: To ensure consideration, please send your written comments by February 14, 2013.

ADDRESSES: You may submit comments on this draft policy by any of the following methods:

• Electronically: Go to the Federal eRulemaking Portal: http://www.regulations.gov. Search for FWS-HQ-NWRS-2012-0092, which is the docket number for this notice. You may submit a comment by clicking on “Comment Now!”

• By hard copy: Submit by U.S. mail or hand-delivery to: Public Comments Processing, Attn: FWS-HQ-NWRS-2012-0092; Division of Policy and Directives Management; U.S. Fish and Wildlife Service; 4401 N. Fairfax Drive, MS 2024-PDM; Arlington, VA 22203.

We will not accept email or faxes. We will post all comments on http://www.regulations.gov. This generally means that we will post any personal information you provide us (see Request for Public Comments under SUPPLEMENTARY INFORMATION for more information).

FOR FURTHER INFORMATION CONTACT: Janet Bruner, 703-358-1713.

SUPPLEMENTARY INFORMATION: The draft guidance document that is the subject of this notice is available at www.fws.gov/refuges/donations.

Background

The Department of the Interior issued “ETHICS AND CONDUCT, Employee Responsibilities and Conduct, Donations” (374 DM 6), in 2007. This guidance requires all Interior bureaus to develop their own policy on donations.

Several authorities allow various types of donations, including real and personal property, services, and money. These include the Fish and Wildlife Coordination Act (16 U.S.C. 661 et seq.), which allows acceptance of funds or lands, pending State approval. A later amendment to the Fish and Wildlife Act of 1956 (16 U.S.C. 742f) allows the Service to accept real and personal property donations. Other authorities cited in this draft donations policy include the Partnerships for Wildlife Act (16 U.S.C. 3741); Alaska National Interest Lands Conservation Act (16 U.S.C. 3101); Migratory Bird Conservation Act, as amended (16 U.S.C. 715-715r); National Wildlife Refuge System Volunteer and Community Partnership Enhancement Act of 1998, as amended (16 U.S.C. 742f); Great Lakes Fisheries Act of 1956 (16 U.S.C 932); and the National Wildlife Refuge System Administration Act of 1966 (16 U.S.C. 668dd(b)(2)).

In addition to those broader authorities, individual units of the National Wildlife Refuge System or the National Fish Hatchery System may have specific legislative authority to accept donations. This draft donations policy is in keeping with statutory requirements as well as with the aforementioned Departmental guidance, 374 DM 6.

Draft Policy

We recognize the value of donations, but also the potential problems with accepting them. This draft policy covers the ethical considerations for donations, fundraising, and solicitation. While donations can be a means to further our mission, not all donations are appropriate. This draft policy provides consistent procedures for evaluating potential donors and donations to determine if acceptance is appropriate. The policy also helps the reader determine who has authority to accept appropriate donations. That authority depends on the type (real property or non-real property) and the monetary value of the donation.

This draft policy also covers soliciting donations and fundraising. Those activities are primarily done by Friends groups, groups of volunteers who support specific refuges. Requirements for solicitation of donations by Friends groups are covered in existing Service Manual chapters 150 FW 1-3. The draft donations policy we are putting out for comment now will list the limited circumstances when Service employees may solicit donations. It will describe inappropriate fundraising activities and also mention grant applications and acceptance.

Recognizing donors is very important. This draft policy also contains information on that, including a template for a thank-you letter.

Request for Public Comments

You may submit comment and materials on this notice by any of the methods listed in the ADDRESSES section. We will not accept comments sent by email or fax or to an address not listed in the ADDRESSES section. We will not consider hand-delivered comments that we do not receive, or mailed comments that are not postmarked, by the date specified in the DATES section.

We will post your entire comment on http://www.regulations.gov. Before including personal identifying information in your comment, you should be aware that we may make your entire comment—including your personal identifying information—publicly available at any time. While you can ask us in your comment to withhold your personal identifying information from public review, we cannot guarantee that we will be able to do so. We will post all hardcopy comments on http://www.regulations.gov.

Dated: December 21, 2012.
Daniel M. Ashe,
Director, U.S. Fish and Wildlife Service.

[FR Doc. 2013-00654 Filed 1-14-13; 8:45 am]

BILLING CODE 4310-55-P